DEPARTMENT OF LABOR

Employment And Training Administration

[TA-W-55,763]

Contractor's Engineer, LLC Neodesha, KS; Notice of Termination of Investigation

Pursuant to section 221 of the Trade Act of 1974, an investigation was initiated on October 8, 2004 in response to a petition filed by a company official on behalf of workers at Contractor's Engineer, LLC, Neodesha, Kansas (TA-W-55,763).

The petitioner has requested that the petition be withdrawn. Consequently, further investigation in this case would serve no purpose, and the investigation has been terminated.

Signed in Washington, DC this 20th day of October 2004.
Linda G. Poole,
Certifying Officer, Division of Trade Adjustment Assistance.

[FR Doc. E4-3025 Filed 11-4-04; 8:45 am]

BILLING CODE 4510-30-P